DEPARTMENT OF HOMELAND SECURITY

U.S. Customs and Border Protection

DEPARTMENT OF THE TREASURY

19 CFR Part 12

[CBP Dec. 21-17]

RIN 1515-AE70

Extension and Amendment of Import Restrictions on Archaeological Material and Imposition of Import Restrictions on Ethnological Material of Egypt

AGENCY: U.S. Customs and Border Protection, Department of Homeland Security; Department of the Treasury.

ACTION: Final rule.

SUMMARY: This final rule amends the U.S. Customs and Border Protection (CBP) regulations to reflect an extension and amendment of import restrictions on certain archaeological material and the imposition of import restrictions on ethnological material of the Arab Republic of Egypt (Egypt). The restrictions on archaeological material, which were originally imposed by CBP Dec. 16-23, were extended and amended on November 30, 2021. The Acting Assistant Secretary for Educational and Cultural Affairs, United States Department of State, has made the requisite determinations for extending and updating the import restrictions that previously existed, and the Governments of the United States and Egypt entered into a new agreement to reflect the extension of these import restrictions. Additionally, the Acting Assistant Secretary for Educational and Cultural Affairs, United States Department of State, has made the requisite determinations for adding import restrictions on certain categories of ethnological material. The new agreement, which entered into force on November 30, 2021, supersedes the existing Memorandum of Understanding (MOU) that became effective on November 30, 2016, and enabled the promulgation of the existing import restrictions. Accordingly, the current import restrictions and new import restrictions will be effective until November 30, 2026, and the CBP regulations are being amended to reflect this extension and imposition. To fulfill the terms of the new MOU, the Designated List of cultural property, which was described in CBP Dec. 16-23, is amended in this document to reflect the addition and revision of categories of archaeological material of Egypt ranging in date from approximately 300,000 B.C. to A.D. 1750, and to include certain ethnological material ranging from A.D. 1517 to 1914.

DATES: Effective on December 1, 2021.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

Pursuant to the Convention on Cultural Property Implementation Act, Public Law 97-446, 19 U.S.C. 2601 et seq. (hereinafter, “the Cultural Property Implementation Act”), which implements the 1970 United Nations Educational, Scientific and Cultural Organization (UNESCO) Convention on the Means of Prohibiting and Preventing the Illicit Import, Export and Transfer of Ownership of Cultural Property (hereinafter, “the Convention” (823 U.N.T.S. 231 (1972)), the United States entered into a bilateral agreement with the Arab Republic of Egypt (Egypt) on November 30, 2016. The Memorandum of Understanding (MOU) enabled the promulgation of import restrictions on certain archaeological material representing Egypt's cultural heritage ranging from approximately 300,000 B.C. to A.D. 1750.

On December 6, 2016, U.S. Customs and Border Protection (CBP) published CBP Dec. 16-23 in the Federal Register (81 FR 87805), which amended § 12.104g(a) of title 19 of the Code of Federal Regulations (19 CFR 12.104g(a)) to reflect the imposition of import restrictions and included a list designating the types of archaeological material covered by the restrictions.

Import restrictions listed at 19 CFR 12.104g(a) are effective for no more than five years beginning on the date on which the agreement enters into force with respect to the United States. This period may be extended for additional periods of not more than five years if it is determined that the factors which justified the initial agreement still pertain and no cause for suspension of the agreement exists. See 19 CFR 12.104g(a).

On February 5, 2021, the United States Department of State proposed in the Federal Register (86 FR 8476), to extend and amend the MOU between the United States and Egypt concerning the import restrictions on certain categories of archeological material of Egypt. On August 15, 2021, after consultation with and recommendations by the Cultural Property Advisory Committee, the Acting Assistant Secretary for Educational and Cultural Affairs, United States Department of State, determined that: (1) Egypt's cultural heritage continues to be in jeopardy from pillage of archeological resources and that the import restrictions should be updated and extended for an additional five years; and (2) Egypt's cultural heritage is in jeopardy from pillage of certain types of ethnological material, from Egypt, ranging in date from A.D. 1517 to A.D. 1914, and import restrictions on such types of ethnological material should be imposed.

Subsequently, on November 30, 2021, the Governments of the United States and Egypt entered into a new agreement, titled “Memorandum of Understanding Between the Government of the United States of America and the Government of the Arab Republic of Egypt Concerning the Imposition of Import Restrictions on Categories of Cultural Property of Egypt.” The new MOU supersedes the existing agreement that first entered into force on November 30, 2016. Pursuant to the new MOU, the import restrictions for archaeological material are updated and will be effective until November 30, 2026, along with the imposition of additional import restrictions on certain categories of ethnological material, which will also be effective until November 30, 2026.

Accordingly, CBP is amending 19 CFR 12.104g(a) to reflect the extension of the import restrictions and amending the Designated List of cultural property described in CBP Dec. 16-23 with the addition and revision of categories of archaeological material of Egypt ranging in date from approximately 300,000 B.C. to A.D. 1750, as set forth below. The Designated List of cultural property described in CBP Dec. 16-23 is also amended by adding certain categories of ethnological material of Egypt ranging in date from A.D. 1517 to 1914, as set forth below. The restrictions on the importation of archaeological and ethnological material will be in effect through November 30, 2026. Importation of such material of Egypt, as described in the Designated List below, will be restricted through that date unless the conditions set forth in 19 U.S.C. 2606 and 19 CFR 12.104c are met.

The Designated List and additional information may also be found at the following website address: https://eca.state.gov/cultural-heritage-center/cultural-property-advisory-committee/current-import-restrictions by selecting the material for “Egypt.”

Designated List of Archaeological and Ethnological Material of Egypt

The Designated List contained in CBP Dec. 16-23, which describes the types of articles to which the import restrictions apply, is amended to reflect the inclusion of additional archaeological material and certain ethnological material in the Designated List. In order to clarify certain provisions of the Designated List contained in CBP Dec. 16-23, the amendment also includes minor revisions to the language and numbering of the Designated List. For the reader's convenience, CBP is reproducing the Designated List contained in CBP Dec. 16-23 in its entirety, with the changes, below.

The Designated List includes archaeological material from Egypt ranging in date from approximately 300,000 B.C. to A.D. 1750, and certain ethnological material from Egypt ranging in date from A.D. 1517 to 1914.

Categories of Archaeological and Ethnological Material

I. Archaeological

A. Stone

B. Metal

C. Ceramic and Clay

D. Wood

E. Faience and Glass

F. Ivory, Bone, and Shell

G. Plaster and Cartonnage

H. Textile, Basketry, and Rope

I. Leather and Parchment

J. Papyrus

K. Painting and Drawing

L. Mosaics

M. Writing

N. Human and Animal Remains

II. Ethnological

A. Stone

B. Metal

C. Ceramic and Clay

D. Wood

E. Bone, Ivory, and Shell

F. Glass and Semi-Precious Stone

G. Leather, Parchment, and Paper

H. Textiles

Approximate chronology of well-known periods and sites:

(a) Paleolithic period (c. 300,000-8800 B.C.): Bir Sahara East, Bir Tarfawi, el-Kab (Nekheb), Jebel Sahaba, Taramsa-1, Wadi Tushka

(b) Neolithic period (c. 8800-4000 B.C.): Armant, Bir Kiseiba, Deir Tasa, el-Badari, el-Omari, el Tarif, Hammamiya, Hierakonpolis (Nekhen), Merimde Beni-salame, Nabta Playa

(c) Predynastic period (c. 4000-3200 B.C.): Abydos, Adaïma, Deir el Ballas, el-Amra, el-Badari, el-Mahasna, Gerza, Hierakonpolis (Nekhen), Ma'adi, Minshat Abu Omar, Mostagedda, Naga ed-Deir, Naqada, Tell el-Fara'in (Buto), Tell el-Farkha, Tjenu (Thinis), Wadi Digla

(d) Early Dynastic period (c. 3200-2686 B.C.): Abusir, Abydos, Coptos/Koptos, Giza, Elephantine, Memphis, Minshat Abu Omar, Helwan, Hierakonpolis (Nekhen), Saqqara, Tarkhan, Tell el-Fara'in (Buto), Tell el-Farkha

(e) Old Kingdom period (c. 2686-2125 B.C.): Ayn Sokhna, Abu Ghurob, Abusir, Abydos, Aswan, Bet Khallaf, Dashur, Dendera, Elephantine, Giza, Heliopolis, Hierakonpolis (Nekhen), Kom el-Hisn, Maidum/Meidum, Memphis, Naga el-Deir, Naqada, Sais, Saqqara, Tell Edfu, Wadi Maghara, Zawiyet el-Aryan

(f) First Intermediate period (c. 2125-2055 B.C.): Asyut, Hierakonpolis (Nekhen), Ihnasya el-Medina (Herakleopolis), Kom Dara, Memphis, Naga el-Dier, Saqqara, Tell Edfu

(g) Middle Kingdom period (c. 2055-1650 B.C.): Asyut, Abydos, Beni Hasan, Dashur, Deir el-Bahri, Crocodopolis (Fayum) Deir el Ballas, Hawara, Elephantine, Heliopolis, Herakleopolis, Hierakonpolis (Nekhen), Kahun, Karnak/Thebes, Lisht, Memphis, Qau el-Kebir, Tell el-Dab'a (Avaris), Tell Edfu, Wadi Hammamat, Wadi el-Hudi

(h) Second Intermediate period (c. 1650-1550 B.C.): Abydos, Bubastis, Tell el-Daba, Karnak/Thebes, Deir el Ballas, el-Kab, Memphis, Tell el-Yahudiyeh, Tura

(i) New Kingdom period (c. 1550-1069 B.C.): Abydos, Abu Simbel, Akhmim, Armant, Asyut, Aswan, Bubastis, Coptos/Koptos, Dakhla Oasis, Deir el-Medina, Dendera, Elephantine, Heliopolis, Hermopolis, el-Kab, Karnak/Thebes, Kharga Oasis, Luxor, Medamud, Memphis, Qantir, Saqqara, Serabit el-Khadim, Tell el-Amarna, Tell el-Daba, Tod, Wadi Hammamat, Wadi Natron

(j) Third Intermediate period (c. 1069-664 B.C.): Abusir, Armant, Bubastis, Elephantine, el-Kab, el-Asasif, el-Hiba, Herakleopolis, Hermopolis, Karnak/Thebes, Kharga Oasis, Leontopolis, Memphis, Tell el-Fara'in (Buto), Tanis, Tell Defanna, Tell el Herr, Tell el-Maskhuta, Tanis, Wadi Tumilat

(k) Late period (c. 664-332 B.C.): Bubastis, Busiris, Dendera, Heliopolis, Herakleopolis, Hermopolis, el-Hiba, Karnak/Luxor, Kom Ombo, Kharga Oasis, Memphis, Mendes, Philae, Sais, Saqqara, Sebennytos, Siwa Oasis, Tell Edfu

(l) Greco-Roman/Ptolemaic period (332 B.C.-A.D. 395): Abu Sha'ar, Ain el-Tabinieh, Alexandria, Amheida (Trimithis), Antinoöpolis, Antinoe, Aswan (Syene), Bahariya Oasis, Berenike, Busiris, Canopus, Coptos/Koptos, Dakhla Oasis, Damietta, Dendera, Farafra Oasis, el-Haiz, Karanis, Kellis, Kharga Oasis, Kom Ombo, Hawara, Marina al-Alamein, Medinet Madi, Memphis, Naukratis, Oxyrhynchus, Philae, Ptolemais, Quseir el-Qadim (Myos Hormos), Soknopaiou Nesos, Tebtynis (Tebtunis), Tell Edfu

(m) Byzantine period (c. A.D. 395-640): Abu Fano, Alexandria, el-Kab, Abu Mina, Arsinoe, Aswan, Athribis (both Delta Athribis and Sohag Athribis), Bawit, Coptos/Koptos, Dakhla Oasis, Dayr el-Muharraq, Dendur, Douch, Tell Edfu, Fayoum monasteries (Dayr al-Malek Gabriel), Herakleopolis Magna, Hermopolis Magna (city and necropolis Tuna el-Gebel), Jeme (Medinet Habu), Karanis, Kellia, Kharga Oasis, Kom el-Dikka, Medinet Madi, Menouthis, Mons Claudianus, Mons Porpyrites, Mount Sinai, Nag Hammadi, Old Cairo, Oxyrhynchos, Panopolis (Akhmim) and area monasteries, Pelusion, Philae, Raithou, Red Sea Monasteries (SS. Antony and Paul), Saqqara, Sinai, Sohag, Tall al-Farama, Tell el-Amarna, Thebes, Wadi Natrun, Wadi Pharan (Sinai, Monastery)

(n) Islamic/Medieval period (A.D. 640-1517): Alexandria, al-Ashmunayn, Aswan, Athribis (Sohag), Aydhab, al-Bahnasa, al-Fustat, al-Rashid (Rosetta), Antinoopolis, Aswan, Cairo, Damietta, Tell Edfu, Giza, Hamouli, Jeme, Luxor, Madinat al-Fayyum, Minya, Qūs, Qusayr, Red Sea Monasteries (SS. Antony and Paul), Rosetta, Sohag, Thebes, Wadi Natrun

(o) Ottoman and early Muhammad `Ali periods (A.D. 1517-1914): Alexandria, al-Rashid (Rosetta), Aswan, Asyut, Cairo, Damietta, Ibrim, Red Sea Monasteries (SS. Antony and Paul), Tanta, Qusayr, Salihiyya, Suez, Thebes

I. Archaeological Material

Archaeological material includes categories of objects from the Paleolithic to the middle of the Ottoman period in Egypt, ranging in date from approximately 300,000 B.C. to A.D. 1750.

A. Stone

1. Sculpture

i. Architectural Elements—This category includes architectural elements from temples, tombs, palaces, mosques, churches, monasteries, commemorative monuments, and domestic architecture, including doors, door frames, window fittings, columns, capitals, bases, lintels, jambs, roofs, pediment, archways, friezes, pilasters, engaged columns, prayer niches (mihrabs), fountains, inlays, and blocks from walls, floors, and ceilings. Examples are often decorated in relief with ornamental Pharaonic, Greco-Roman, Coptic, and Islamic motifs and inscriptions. Limestone, sandstone, and granite are most commonly used. Stone is often reused.

ii. Statues—Types include large- and small-scale representations of humans, animals, and hybrid figures with a human body and animal head. Human figures may be standing, usually with the left foot forward, seated on a block or on the ground, kneeling, or prone. Figures in stone may be supported by a slab of stone at the back. Greco-Roman examples use traditional Egyptian poses with Hellenistic modeling. Limestone, granite, basalt, sandstone (including greywacke), and diorite are most commonly used. Reuse of statues is common with re-inscription of cartouche and other visible re-carving.

iii. Relief Sculpture—Types include large- and small-scale sculpture, including Neolithic and Predynastic greywacke votive and cosmetic palettes, limestone wall reliefs depicting scenes of daily life and rituals, and steles/stelae and plaques in a variety of stones for funerary and commemorative purposes.

iv. Tombstones—This category includes tombstones and grave markers made of marble, limestone, or other kinds of stone. They may be carved in relief and/or have decorative moldings.

2. Vessels and Containers—This category includes conventional shapes such as bowls, cups, jars, and lamps. This category also includes vessels having the form of human, animal, hybrid, plant, hieroglyphic signs, and combinations or parts thereof.

3. Funerary Objects and Equipment

i. Sarcophagi and Coffins—This category includes sarcophagi and coffins with separate lids, either in the form of a large rectangular box, or human-shaped (anthropoid) and carved with modeled human features. Both types are often decorated outside, and sometimes inside, with incised or painted images and text inscriptions.

ii. Canopic Shrines—This category includes shrines in the form of a box with space inside for four canopic jars.

iii. Canopic Jars—This category includes jars with plain lids or lids in the form of human or animal heads and used to hold the internal organs of the deceased. A full set includes four jars. Sometimes these jars are dummies, carved from a single piece of stone with no interior space.

4. Objects of Daily Use—This category includes chests and boxes, furniture, headrests, writing and painting equipment, games, and game pieces.

5. Tools and Weapons—Chipped stone types include large and small blades, borers, scrapers, sickles, burins, notches, retouched flakes, cleavers, knives, chisels, awls, harpoons, cores, loom weights, and arrowheads. Ground stone types include grinders (e.g., mortars, pestles, millstones, whetstones, querns), choppers, axes, hammers, molds, weights, and mace heads.

6. Jewelry, Amulets, and Seals

i. Jewelry—This category includes jewelry of colored and semi-precious stones for personal adornment, including necklaces, chokers, pectorals, pendants, crowns, earrings, bracelets, anklets, belts, girdles, aprons, and finger rings.

ii. Amulets—This category includes amulets of colored and semi-precious stones in the form of humans, animals, hybrids, plants, hieroglyphic signs, and combinations or parts thereof.

iii. Stamp and Cylinder Seals—These are small devices with at least one side engraved (in intaglio and relief) with a design for stamping or sealing. The most common type is the scarab, in the form of a beetle with an inscription on the flat base.

7. Ostraca—Chips of stone used as surfaces for writing or drawing.

B. Metal

1. Sculpture

i. Statues—Types include large- and small-scale, including human, animal, and hybrid figures similar to those in stone. Metal statues usually lack the support at the back. The most common materials are bronze and copper alloys, but gold and silver are used as well.

ii. Relief sculpture—Types include plaques, appliques, and mummy masks. Reliefs may include inscriptions in various languages.

2. Vessels and Containers—This category includes conventional shapes such as bowls, cups, jars, plates, cauldrons, lamps, lampstands, scroll and manuscript containers, reliquaries, incense burners, and vessels in the form of humans, animals, hybrids, plants, hieroglyphic signs, and combinations or parts thereof.

3. Objects of Daily Use—This category includes musical instruments, including trumpets, clappers, and sistra.

4. Tools—Types include axes, adzes, saws, scrapers, trowels, locks, keys, nails, hinges, mirrors, ingots, thimbles, fibulae (for pinning clothing), drills, chisels, knives, hooks, needles, tongs, tweezers, and weights in copper alloy, bronze, and iron.

5. Weapons and Armor

i. Weapons—Types include mace heads, knives, daggers, swords, curved swords, axes, arrows, javelins, arrowheads, and spears in copper alloy, bronze, and iron.

ii. Armor—Early armor consisted of small metal scales, originally sewn to a backing of cloth or leather, later augmented by helmets, body armor (cuirasses, bracers, shin guards), shields, and horse armor.

6. Jewelry, Amulets, and Seals

i. Jewelry—This category includes jewelry made of gold, silver, copper, and iron for personal adornment, including necklaces, chokers, pectorals, finger rings, beads, pendants, bells, belts, buckles, earrings, diadems, straight pins and fibulae, bracelets, anklets, girdles, wreaths and crowns, cosmetic accessories and tools, metal strigils (scrapers), crosses, and lamp holders.

ii. Amulets—Types include amulets in the form of humans, human organs and parts, animals, hybrids, plants, hieroglyphic signs, deities, religious symbols, and combinations or parts thereof.

7. Late Antique Christian, Greek Orthodox, and Coptic Liturgical Objects—Types include censers, crosses, Bible caskets, lamps, patens, Eucharistic goblets, icons, and iconostases.

8. Coins—Types appear in copper or bronze, silver, and gold.

i. Dynasty 30—Coins of this type have the hieroglyphs nwb nfr on one side and a horse on the other.

ii. Dynasty 31—Coins of this type are Egyptian imitations of silver Athenian coins that depict the helmeted head of Athena on the obverse and owl on the reverse with an inscription in Demotic (looks cursive) to the right of the owl. There are similar coins in silver but with an inscription in Aramaic (look angular) to the right of the owl. The former were struck under the authority of the Persian Great King Artaxerxes III when he recaptured Egypt in the mid-4th B.C.; the latter were struck under the Persian satraps of Egypt Sabaces and Mazakes in the 330s B.C. There are rare silver drachms marked NAU (Naucratis) instead of AΘE.

iii. Hellenistic and Ptolemaic—Coins of this type are struck in gold, silver, and bronze at Alexandria and any other mints that operated within the borders of the modern Egyptian state. Gold coins of and in honor of Alexander the Great, struck at Alexandria and Memphis, depict a helmeted bust of Athena on the obverse and a winged Victory on the reverse. Silver coins of Alexander the Great, struck at Alexandria and Memphis, depict a bust of Herakles wearing the lion skin on the obverse, or “heads” side, and a seated statue of Olympian Zeus on the reverse, or “tails” side. Gold coins of the Ptolemies from Egypt will have jugate portraits on both obverse and reverse, a portrait of the king on the obverse and a cornucopia on the reverse, or a jugate portrait of the king and queen on the obverse and cornucopias on the reverse. Silver coins of the Ptolemies from Egypt tend to depict a portrait of Alexander wearing an elephant skin on the obverse and Athena on the reverse or a portrait of the reigning king with an eagle on the reverse. Some silver coins have jugate portraits of the king and queen on the obverse. Bronze coins of the Ptolemies commonly depict a head of Zeus (bearded) on the obverse and an eagle on the reverse. These iconographical descriptions are non-exclusive and describe only some of the more common examples. There are other types and variants among the Hellenistic and Ptolemaic coinage. Approximate date: ca. 332 B.C. through ca. 31 B.C.

iv. Roman—Coins of this type are struck in bronze, silver, or gold at Alexandria and any other mints that operated within the borders of the modern Egyptian state until approx. A.D. 498. The iconography of the coinage in the Roman period varied widely, although a portrait of the reigning emperor is almost always present on the obverse of the coin. Approximate dates: ca. 31 B.C. through ca. A.D. 498.

v. Byzantine and Arab Byzantine—Coins of these types are struck in bronze and gold at Alexandria, Fustat, and other mints that operated within the borders of the modern Egyptian state between A.D. 498 and ca. A.D. 696. Iconography may include one, two, or three persons (busts or standing figures); large letters in Latin script (sometimes with smaller Latin, Greek, or Arabic letters along the edge); and crosses, stars, moons, and other symbols.

vi. Islamic/Medieval and Ottoman—Coins of this type are struck in copper, bronze, silver, and gold at Cairo, Fustat, Alexandria, and other mints that operated within the borders of the modern Egyptian state under the Umayyad, `Abbasid, Tulunid, Ikhshidid, Fatimid, Ayyubid, Mamluk, and Ottoman (up to A.D. 1750) dynasties. Iconography is mostly writing in Arabic script, sometimes with stars, circles, flowers, or other ornaments placed at center or among the text, and rarely with human figures or trees.

C. Ceramic and Clay

1. Sculpture—This category includes terracotta statues and statuettes (figurines), including human, animal, and hybrid figures. Ceramic sculptures may be undecorated or decorated with paint, appliques, or inscribed lines.

2. Architectural Decorations—These are baked clay (terracotta) elements used to decorate buildings. Examples include carved and molded brick, panels, acroteria, antefixes, painted and relief plaques, revetments, carved and molded bricks, knobs, plain or glazed roof tiles, and glazed tile wall ornaments and panels.

3. Vessels and Containers

i. Neolithic—Types are made of red Nile clay with blackened rim, thin walls, and rippled surface. Others have smoothed surfaces, but otherwise plain. Decorations may include painting or incised designs.

ii. Predynastic Period—Types typically have a burnished red body with or without a white-painted decoration, or a burnished red body and black top, or a burnished black body sometimes with incised decoration, or an unburnished light brown body with dark red painted decoration, including human and animal figures and boats, spirals, or an abstract design.

iv. Dynastic Periods—Types are primarily utilitarian but also come as ornate forms, typically undecorated and sometimes burnished. New Kingdom examples may have elaborate painted, incised, and molded decorations, especially floral motifs depicted in blue paint.

v. Greco-Roman Period—Types include vessels with riled decoration, pilgrim flasks, and terra sigillata, a high-quality table ware made of red to reddish brown clay and covered with a glossy slip.

vi. Byzantine Period/Coptic—pilgrim flasks and decorated ceramic jars and bowls.

vii. Islamic/Medieval and Ottoman Periods—Types include glazed, molded, and painted forms in a variety of shapes and sizes.

4. Coffins—This category includes baked clay coffins, either rectangular or human-shaped (anthropoid). Examples are sometimes painted.

5. Objects of Daily Use—This category includes game pieces carved from ceramic sherds, loom weights, toys, incense burners, tobacco pipes, andirons, and lamps.

6. Writing

i. Ostraca—Ostraca are pottery sherds used as surfaces for writing or drawing.

ii. Cuneiform Tablets—These objects are typically small pillow-shaped rectangles of unbaked clay incised with patterns of wedge-shaped cuneiform symbols.

D. Wood

1. Sculpture

i. Statues—Types include large- and small-scale examples, including human, animal, and hybrid figures. Shabti statuettes and small mummiform human figures are especially common. Wood statues usually lack the support at the back.

ii. Relief sculpture—Types include large- and small-scale examples, including relief plaques for funerary purposes.

2. Architectural Elements

i. Late Antique Christian, Greek Orthodox, and Coptic—This category includes carved and inlaid panels, doors, ceilings, altars, episcopal thrones, pulpits, lecterns, and iconostases, often decorated with floral, geometric, and Christian motifs.

ii. Islamic/Medieval—This category includes carved and inlaid wood rooms, balconies, stages, panels, ceilings, and doors.

3. Funerary Objects and Equipment

i. Sarcophagi and Coffins—This category includes sarcophagi and coffins with separate lid, either in the form of a large rectangular box or human-shaped and carved with modeled human features. Both types are often decorated inside and outside with painted, inlaid, or incised images, and with inscriptions.

ii. Mummy masks—This category includes masks that were laid over the face of the deceased. They were often painted, inlaid, and covered with gold foil.

iii. Funerary models—Types include boats, buildings, food, and activities from everyday life.

iv. Shrines—This category includes shrines used to house sarcophagi or statuettes of deities.

v. Food Containers—Types include containers in the shape of the product they contain, such as a loaf of bread or a duck.

4. Objects of Daily Use—This category includes furniture such as chairs, stools, beds, chests and boxes, headrests, writing and painting equipment, musical instruments, game boxes and pieces, walking sticks, chariots, and chariot fittings.

5. Tools and Weapons—This category includes adzes, axes, bow drills, carpenter's levels and squares, bows, arrows, and spears.

6. Vessels and Containers—This category includes wooden vessels and containers including ciboria (Christian shrine-shaped receptacles for the Eucharist).

7. Furniture—This category includes moveable furniture, such as iconostases, lecterns, pulpits, and episcopal thrones.

E. Faience and Glass

1. Egyptian Faience—This category includes objects made from faience: A glossy, silicate-based fired material, is usually blue or turquoise, but other colors are found as well. Object types include vessels and containers, canopic jars, game pieces, seals, amulets, jewelry, inlays, and statuettes in human, animal, and hybrid forms.

2. Glass

i. Pharaonic—This category includes parts of statues, and glass containers that are typically small and often elaborately decorated with multi-colored bands.

ii. Roman—Types in this category include a great variety of hand-blown vessel and container shapes.

iii. Byzantine—Types include hand-blown vessels, hanging lamps, and chandeliers (polycandela), painted windows, stained glass, and mosaic tesserae.

iv. Islamic/Medieval and Ottoman—This category includes vessels and containers such as glass and enamel mosque and sanctuary lamps, coin weights, and architectural elements including glass inlay and tesserae pieces from floor and wall mosaics, mirrors, and windowpanes.

F. Ivory, Bone, and Shell

1. Sculpture—This category includes statuettes of human, animal, and hybrid figures in bone or ivory.

2. Objects of Daily Use—This category includes writing and painting equipment, musical instruments, games, cosmetic containers, combs, tools (such as awls, burnishers, needles, spatulas and fishhooks), jewelry, amulets, and seals. This category also includes inlays of these materials from luxury objects including furniture, chests, and boxes.

3. Reliefs, Plaques, Steles, and Inlays—These are carved and sculpted and may have figurative, floral, and/or geometric motifs. Examples may also have inscriptions in various languages.

G. Plaster and Cartonnage

1. Plaster—This category includes objects made of plaster, such as mummy masks, jewelry, and other objects in imitation of expensive materials. They are typically molded and then decorated with paint or gilding. Plaster objects also occur as life masks and sculptor's models.

2. Cartonnage—This category includes pieces of papyrus or linen covered with plaster and molded into a shape, similar to papier-mâché, and then painted or gilded. Cartonnage was used for coffins and mummy masks. Today, cartonnage objects are sometimes dismantled in hopes of extracting inscribed papyrus fragments.

3. Stucco—This category includes architectural decoration in stucco. Stucco is a fine plaster used for coating wall surfaces, or molding and carving into architectural decorations, such as reliefs, plaques, steles, and inlays

H. Textile, Basketry, and Rope

1. Textile

i. Linen—This category includes Pharaonic and Greco-Roman period mummy wrapping, shrouds, garments, and sails made from linen cloth.

ii. Late Antique Christian, Greek Orthodox, and Coptic—This category includes Christian garments and hangings made from linen and wool.

iii. Islamic/Medieval and Ottoman—This category includes textile fragments in linen, wool, and cotton.

2. Basketry—This category includes baskets and containers in a variety of shapes and sizes, sandals, and mats made from plant fibers.

3. Rope—This category includes rope and string from archaeological contexts. Rope and string were used for a great variety of purposes, including binding planks together in shipbuilding, rigging, lifting water for irrigation, fishing nets, measuring, and stringing beads for jewelry and garments.

I. Leather and Parchment

1. Leather—This category includes shields, sandals, clothing (including undergarments), and horse trappings made from leather. It also includes leather sheets used occasionally as an alternative to papyrus as a writing surface.

2. Parchment—This category includes documents such as illuminated ritual manuscripts that may occur in single leaves or bound as a book or “codex” written or painted on specially prepared animal skins (cattle, sheep/goat, camel) known as parchment.

J. Papyrus—This category includes scrolls, books, manuscripts, and documents, including religious, ceremonial, literary, and administrative texts written on papyrus. Scripts include hieroglyphic, hieratic, Aramaic, Syriac, Hebrew, Greek, Latin, Coptic, Arabic, Georgian, Slavonic, Ethiopian, Armenian, and Persian.

K. Painting and Drawing

1. Tomb Paintings—This category includes paintings on plaster or stone, either flat or carved in relief. Typical subjects include the tomb owner and family, gods, and scenes from daily life.

2. Domestic Wall Paintings—This category includes paintings on stone, mud plaster, or lime plaster (wet—buon fresco—and dry—secco fresco), sometimes to imitate marble. Types include simple applied color, bands and borders, landscapes, and scenes of people and/or animals in natural or built settings.

3. Rock Art—Rock art can be painted and/or chipped and incised drawings on natural rock surfaces. Common motifs include humans, animals, geometric, and/or floral elements.

4. Ostraca—This category includes paintings and drawings on stone chips, bone, and pottery shards.

5. Mummy Portrait Panels and Funerary Masks—This category includes panels and masks that either covered the upper body of the deceased or appear on the outer coffin/sarcophagus. These objects were made in wood, plaster, and cartonnage, and they were often painted to depict the head and upper body of the deceased.

6. Late Antique Christian, Greek Orthodox, and Coptic Painting

i. Wall and Ceiling Paintings—This category includes paintings on various kinds of plaster, and which generally portray religious images and scenes of biblical events. Surrounding paintings may contain animal, floral, or geometric designs, including borders and bands.

ii. Panel Paintings (Icons)—This category includes smaller versions of the scenes on wall paintings, and may be partially covered with gold or silver, sometimes encrusted with semi-precious or precious stones or glass, and are usually painted on a wooden panel, often for inclusion in a wooden screen (iconostasis). Icons also occur painted on ceramic.

L. Mosaics

1. Floor Mosaics—Floor mosaics are made from stone cut into small bits (tesserae) or glass and laid into a plaster matrix. Subjects may include landscapes, scenes of humans or gods, and activities such as hunting and fishing. There may also be vegetative, floral, or decorative motifs.

2. Wall and Ceiling Mosaics—Wall and ceiling mosaics are made from stone or glass cut into small bits (tesserae) and laid into a plaster matrix. Subjects may include religious images and scenes of Biblical events. Surrounding panels may contain animal, floral, or geometric designs.

M. Writing—This category includes objects made from papyrus, wood, ivory, stone, metal, textile, clay, and ceramic that exhibit forms of writing including hieroglyphic, hieratic, Aramaic, Assyrian, Babylonian, Persian, Hebrew, Greek, Latin, Coptic, Syriac, Georgian, Slavonic, Ethiopian, Armenian, Persian, and Arabic scripts.

N. Human and Animal Remains—This category includes human and animal mummies.

II. Ethnological Material

Ethnological material covered by the Agreement includes architectural elements, manuscripts, ecclesiastical objects, and ceremonial and ritual objects of the Islamic culture, ranging in date from A.D. 1517 to 1914. This would exclude Jewish ceremonial or ritual objects.

A. Stone

1. Architectural Elements—This category includes doors, door frames, window fittings, columns, capitals, plinths, bases, lintels, jambs, roofs, archways, friezes, pilasters, engaged columns, altars, prayer niches (mihrabs), screens, fountains, inlays, and blocks from walls, floors, and ceilings of buildings. Architectural elements may be plain, molded, or carved and are often decorated with motifs and inscriptions. Marble, limestone, and sandstone are most commonly used.

2. Architectural and Non-Architectural Relief Sculpture—This category includes slabs, plaques, steles, capitals, mosaic panels, and plinths carved with religious, figural, floral, or geometric motifs or inscriptions in Arabic for ceremonial and ritual use. Examples occur primarily in marble, limestone, and sandstone.

3. Memorial Stones and Tombstones—This category includes tombstones, grave markers, and cenotaphs. Examples occur primarily in marble and are engraved with Arabic script.

4. Vessels and Containers—This category includes ceremonial and ritual stone lamps and containers.

B. Metal

1. Architectural Elements—This category includes doors, door fixtures, such as knockers, bolts and hinges, chandeliers, screens, taps, spigots, fountains, and sheets. Copper, brass, lead, and alloys are most commonly used.

2. Architectural and Non-Architectural Relief Sculpture—This category includes appliques, plaques, and steles, primarily made of bronze and brass, for ceremonial and ritual use. Examples often include religious, figural, floral, or geometric motifs. They may also have inscriptions in Arabic.

3. Lamps—This category includes handheld lamps, candelabras, braziers, sconces, chandeliers, and lamp stands for ceremonial, ritual, and funerary use.

4. Vessels and Containers—This category includes containers used for religious services, such as Koran (Qur'an) cases, Greek Orthodox and Coptic Bible caskets, patens, Eucharistic goblets, amulet boxes, and incense burners. Brass, copper, silver, and gold are most commonly used. Containers may be plain, engraved, hammered, or otherwise decorated. Bible caskets may be made of wood and covered with embossed silver sheets attached by nails.

5. Musical Instruments—This category includes instruments used in Islamic/Sufi religious ceremonies or rituals such as cymbals and trumpets.

C. Ceramic and Clay

1. Architectural Elements—This category includes carved and molded brick and engraved and/or painted and glazed tile wall ornaments and panels, sometimes with Arabic script.

2. Lamps—This category includes glazed mosque and sanctuary lamps that may have straight or round, bulbous bodies with a flared top and several branches.

D. Wood

1. Architectural Elements—This category includes doors, door frames and fixtures, windows, window frames, panels, beams, balconies, stages, screens, prayer niches (mihrabs), minbars, icons, wall shelves, cupolas, and ceilings. Examples may be decorated with religious, geometric, or floral motifs or inscriptions, and may be either carved, turned (on a lathe), and/or painted. Icons may be partially covered with gold or silver, sometimes encrusted with semi-precious or precious stones or glass, and are usually painted on a wooden panel, often for inclusion in a wooden screen (iconostasis).

2. Architectural and Non-Architectural Relief Sculpture—This category includes panels, roofs, beams, balconies, stages, panels, ceilings, and doors for ceremonial and ritual use. Examples are carved, inlaid, or painted with decorations of religious, floral, or geometric motifs or Arabic inscriptions.

3. Furniture—This category includes furniture, such as minbars, dikkas, professorial chairs, episcopal thrones, lectures, divans, stools, altars, and tables from Islamic, Greek Orthodox, and Coptic ceremonial or ritual contexts. Examples can be carved, inlaid, or painted and are made from various types of wood.

4. Vessels and Containers—This category includes containers used for religious purposes such as Koran (Qur'an) cases or Greek Orthodox and Coptic Bible caskets and ciboria. Examples may be carved, inlaid, or painted with decorations in religious, floral, or geometric motifs, or Arabic script. Bible caskets may be covered with embossed silver sheets attached by nails.

5. Writing Implements—This category includes printing blocks, writing tablets, and Islamic study tablets inscribed in Arabic and used for teaching the Koran (Qur'an).

6. Musical Instruments—This category includes instruments used in Islamic/Sufi religious ceremonies or rituals, such as frame drums (banadir).

7. Beads—This category includes Islamic prayer beads (mas'baha). Examples may be plain or decorated with carved designs.

E. Bone, Ivory, and Shell

1. Architectural Elements—This category includes lintels and doorframes (often carved), and inlays for religious decorative and architectural elements.

2. Ceremonial Paraphernalia—This category includes boxes, reliquaries (and their contents), plaques, pendants, candelabra, and stamp and seal rings.

F. Glass and Semi-Precious Stone

1. Architectural Elements—This category includes windowpanes, mosaic elements, inlays, and stained glass from ceremonial or ritual contexts.

2. Vessels and Containers—This category includes glass and enamel lamps and vessels used for Islamic, Greek Orthodox, and Coptic religious services. It also includes Greek Orthodox and Coptic Bible caskets that may include glass decoration (cabochons) as part of the embossed silver cover.

3. Beads—This category includes Islamic prayer beads (mas'baha) in glass or semi-precious stones.

G. Leather, Parchment, and Paper

1. Books and Manuscripts—Manuscripts can be written or painted on paper or papyrus. They occur as single leaves, bound with leather or wood as a book or codex, or rolled into a scroll. Types include the Koran (Qur'an) and other Islamic books, Greek Orthodox and Coptic Bibles, prayer books, and manuscripts. Books and manuscripts are often written in black or brown ink, and sometimes embellished with painted colorful floral, geometric, or human motifs.

2. Vessels and Containers—This category includes containers used for Islamic, Greek Orthodox, and Coptic religious services, such as leather Koran (Qur'an) cases or pouches.

3. Musical Instruments—This category includes instruments used in Islamic/Sufi religious ceremonies or rituals, such as leather drums (banadir).

H. Textiles—

This category includes hangings, curtains, shrine covers, prayer rugs used in Islamic/Sufi religious ceremonies or rituals, and Greek Orthodox and Coptic funeral shrouds and tapestries. Examples can be made from linen, silk, cotton, and/or wool.

References

A Catalogue of Greek Coins in the British Museum: Alexandria and the Nomes, 1893, R.S. Poole, Trustees of the British Museum, London.

A Checklist of Islamic Coins (3rd ed.), 2011, S. Album, Stephen Album Rare Coins, Santa Rosa, CA.

An Introduction to the Archaeology of Ancient Egypt, 2015, K.A. Bard, Wiley Blackwell, Malden, MA and Oxford, UK.

Arts of the City Victorious: Islamic Art and Architecture in Fatimid North Africa and Egypt, 2008, J.M. Bloom, American University in Cairo Press, Cairo and New York.

Catalogue of Alexandrian Coins, 1933, J.G. Milne, Oxford University Press, Oxford.

Ptolemaic Coins: An Introduction for Collectors, 1985, R.A. Hazzard, Kirk & Bentley, Toronto.

Renaissance of Islam: Art of the Mamluks. 1981, E. Atıl, Smithsonian Institution Press, Washington, DC.

Roman Provincial Coinage, multiple volumes, 1992-, A. Burnett, et al., The British Museum Press, London.

The Cambridge History of Egypt, Volumes 1 and 2, 1998, C.F. Petry and M.W. Daly (editors), Cambridge University Press, Cambridge, UK.

The Tetradrachms of Roman Egypt, 1969, J.W. Curtis, Argonaut, Chicago.

The Treasures of Islamic Art in the Museums of Cairo, 2006, B. O'Kane (editor), American University in Cairo Press, Cairo and New York.

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Order 12866

CBP has determined that this document is not a regulation or rule subject to the provisions of Executive Order 12866 because it pertains to a foreign affairs function of the United States, as described above, and therefore is specifically exempted by section 3(d)(2) of Executive Order 12866.

Signing Authority

This regulation is being issued in accordance with 19 CFR 0.1(a)(1) pertaining to the Secretary of the Treasury's authority (or that of his/her delegate) to approve regulations related to customs revenue functions.

Troy A. Miller, the Acting Commissioner, having reviewed and approved this document, is delegating the authority to electronically sign this document to Robert F. Altneu, who is the Director of the Regulations and Disclosure Law Division for CBP, for purposes of publication in the Federal Register.

List of Subjects in 19 CFR Part 12

Cultural property, Customs duties and inspection, Imports, Prohibited merchandise, Reporting and recordkeeping requirements.

Amendment to the CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (a) is amended by revising the entry for Egypt to read as follows:

§ 12.104g Specific items or categories designated by agreements or emergency actions.

(a) * * *

State party | Cultural property | Decision No.
* * * * * * *
Egypt | Archaeological material representing Egypt's cultural heritage ranging approximately from 300,000 B.C. to A.D. 1750, and ethnological material ranging from A.D. 1517 to 1914 | CBP Dec. 21-17.
* * * * * * *

* * * * *

Robert F. Altneu,
Director, Regulations & Disclosure Law Division Regulations & Rulings, Office of Trade U.S. Customs and Border Protection.
Approved:
Timothy E. Skud,
Deputy Assistant Secretary of the Treasury.

[FR Doc. 2021-26348 Filed 12-1-21; 11:15 am]

BILLING CODE 9111-14-P